DEPARTMENT OF ENERGY

Federal Energy Regulatory Commission

[Docket No. AD24-9-000]

Innovations and Efficiencies in Generator Interconnection; Notice Requesting Post-Workshop Comment

On September 10 and 11, 2024, Federal Energy Regulatory Commission (Commission) convened a staff-led workshop to discuss innovations and efficiencies in generator interconnection processes.

All interested persons are invited to file post-workshop comments on issues raised during the workshop that they believe would benefit from further discussion. Parties are also invited to provide comments on the questions presented in the workshop agenda.¹ Commenters need not respond to all topics or questions asked.

¹ See Second Supplemental Notice of Staff-Led Workshop, Docket No. AD24-9-000 (Aug. 14, 2024).

Commenters may reference material previously filed in this docket but are encouraged to avoid repetition or replication of previous material. To facilitate the processing of comments, we urge commenters to organize their comments by panel topic and question presented at the workshop and to be brief. In addition, commenters are encouraged, when possible, to provide examples and quantitative data in support of their answers. Comments must be submitted on or before October 15, 2024.

Comments may be filed electronically via the internet.² Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, MD 20852.

² See 18 CFR 385.2001(a)(1)(iii) (2023).

For more information about this Notice, please contact:

Michael G. Henry (Technical Information), Office of Energy Policy and Innovation, (202) 502-8583, Michael.Henry@ferc.gov

Lewis Taylor (Legal Information), Office of the General Counsel, (202) 502-8624, Lewis.Taylor@ferc.gov

Dated: September 12, 2024.
Debbie-Anne A. Reese,
Acting Secretary.

[FR Doc. 2024-21289 Filed 9-18-24; 8:45 am]

BILLING CODE 6717-01-P